SMALL BUSINESS ADMINISTRATION

[Disaster Declaration #12268 and #12269]

Texas Disaster Number TX-00362

AGENCY: U.S. Small Business Administration.

ACTION: Amendment 3.

SUMMARY: This is an amendment of the Presidential declaration of a major disaster for Public Assistance Only for the State of TEXAS (FEMA-1931-DR), dated 08/03/2010.

Incident: Hurricane Alex.

Incident Period: 06/30/2010 through 08/14/2010.

DATES: Effective Date: 08/18/2010.

Physical Loan Application Deadline Date: 10/04/2010.

Economic Injury (EIDL) Loan Application Deadline Date: 05/03/2011.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for Private Non-Profit organizations in the State of Texas, dated 08/03/2010, is hereby amended to include the following areas as adversely affected by the disaster.

Primary Counties: Dawson.

All other information in the original declaration remains unchanged.

(Catalog of Federal Domestic Assistance Numbers 59002 and 59008)

Lisa Lopez-Suarez,
Acting Associate Administrator for Disaster Assistance.

[FR Doc. 2010-21435 Filed 8-26-10; 8:45 am]

BILLING CODE 8025-01-P